ENVIRONMENTAL PROTECTION AGENCY

[ER-FRL-9045-7]

Environmental Impact Statements; Notice of Availability

Responsible Agency: Office of Federal Activities, General Information 202-564-5632 or https://www.epa.gov/ nepa/.

Weekly receipt of Environmental Impact Statements

Filed 07/01/2019 Through 07/05/2019

Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20190158, Final, NMFS, WA, 10 Salmon and Steelhead Hatchery Programs in the Duwamish-Green River Basin, Review Period Ends: 08/12/2019, Contact: Charlene Hurst 503-230-5409.

EIS No. 20190159, Final Supplement, BLM, AZ, Ray Land Exchange Final Supplemental Environmental Impact Statement/Proposed Plan Amendments, Review Period Ends: 08/26/2019, Contact: Michael Werner 602-417-9561.

EIS No. 20190160, Draft, BR, CA, Reinitiation of Consultation on the Coordinated Long-term Operations of the Central Valley Project and the State Water Project, Comment Period Ends: 08/26/2019, Contact: Katrina Harrison 916-414-2425.

Dated: July 8, 2019.
Robert Tomiak,
Director, Office of Federal Activities.

[FR Doc. 2019-14768 Filed 7-11-19; 8:45 am]

BILLING CODE 6560-50-P